DEPARTMENT OF ENERGY

Federal Energy Regulatory Commission

[Docket No. RP01-172-000]

Mojave Pipeline Company; Notice of Informal Settlement Conference

August 2, 2001.

Take notice that an informal settlement conference in this proceeding will be convened on Wednesday, August 8, 2001 at 1:00 p.m. The settlement conference will be held at the offices of the Federal Energy Regulatory Commission, 888 First Street, NE., Washington, DC 20426, for the purpose of exploring the possible settlement of the above referenced docket.

Any party, as defined by 18 CFR 385.102(c), or any participant as defined in 18 CFR 385.102(b), is invited to attend. Persons wishing to become a party must move to intervene and receive intervenor status pursuant to the Commission's regulations (18 CFR 385.214).

For additional information, contact Carmen Gastilo at 208-2182 or Dawn K. Martin at 208-0661.

Linwood A. Watson, Jr.,
Acting Secretary.

[FR Doc. 01-19887 Filed 8-7-01; 8:45 am]

BILLING CODE 6717-01-P